DEPARTMENT OF COMMERCE

National Oceanic and Atmospheric Administration

RIN 0648-XD485

Fisheries of the South Atlantic, Gulf of Mexico, and Caribbean; Southeast Data, Assessment, and Review (SEDAR); Public Meeting

AGENCY: National Marine Fisheries Service (NMFS), National Oceanic and Atmospheric Administration (NOAA), Commerce.

ACTION: Notice of a public meeting of the SEDAR Steering Committee.

SUMMARY: The SEDAR Steering Committee will meet to discuss the SEDAR process and assessment schedule. See SUPPLEMENTARY INFORMATION.

DATES: The SEDAR Steering Committee will meet from 1 p.m. Monday, October 6, 2014, until 5 p.m. Tuesday, October 7, 2014.

ADDRESSES: The Steering Committee meeting will be held at the Crowne Plaza, 4381 Tanger Outlet Boulevard, North Charleston, SC 29418; telephone: (843) 744-4422.

Council address: South Atlantic Fishery Management Council, 4055 Faber Place Drive, Suite 201, N. Charleston, SC 29405.

FOR FURTHER INFORMATION CONTACT: John Carmichael, SEDAR Program Manager, 4055 Faber Place Drive, Suite 201, North Charleston, SC 29405; telephone: (843) 571-4366 or toll free: (866) SAFMC-10; fax: (843) 769-4520; email: john.carmichael@safmc.net.

SUPPLEMENTARY INFORMATION: The items of discussion are as follows: SEDAR Steering Committee Agenda, Monday, October 6, 2014, 1 p.m.-5 p.m. and Tuesday, October 7, 2013, 8:30 a.m.-5 p.m.

1. Review progress of ongoing assessment projects.

2. Address the SEDAR assessment schedule: Review 2015 schedules, determine 2016 priorities and identify projects for 2017-18.

3. Receive a report on the SEFSC Assessment Program Review and consider how review findings may impact the SEDAR process.

4. Review the SEDAR process and consider modifications and improvements.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: September 16, 2014.
Tracey L. Thompson,
Acting Deputy Director, Office of Sustainable Fisheries, National Marine Fisheries Service.

[FR Doc. 2014-22377 Filed 9-18-14; 8:45 am]

BILLING CODE 3510-22-P